DEPARTMENT OF DEFENSE

Office of the Secretary

Meeting of the Defense Advisory Committee on Women in the Services (DACOWITS)

AGENCY: Department of Defense.

ACTION: Notice.

SUMMARY: Pursuant to Section 10(a), Public Law 92-463, as amended, notice is hereby given of a forthcoming meeting of the Defense Advisory Committee on Women in the Services (DACOWITS). The meeting is open to the public, subject to the availability of space.

DATES: December 11, 2012, 8:30 a.m.-1:00 p.m.; December 12, 2012, 8:30 a.m.-11:30 a.m.

ADDRESSES: Embassy Suites Hotel, 1300 Jefferson Davis Hwy, Arlington, VA 22202.

FOR FURTHER INFORMATION CONTACT: Mr. Robert Bowling or DACOWITS Staff at 4000 Defense Pentagon, Room 2C548A, Washington, DC 20301-4000. Robert.bowling@osd.mil. Telephone (703) 697-2122. Fax (703) 614-6233.

SUPPLEMENTARY INFORMATION:

Purpose of Meeting

The purpose of the meeting is to receive a briefing from the Marine Corps on involuntary assignments to the infantry and closed positions. The Army will give an update briefing on their gender neutral standards, and the Committee will receive a DoD update on sexual assault and prevention and response strategy. Additionally, the Committee will receive a briefing on Legislative Proposal for expanded reproductive health care coverage for military women. Finally, the Committee will approve and vote on the final 2012 report.

Meeting Agenda

Tuesday, December 11, 2012, 8:30 a.m.-1:00 p.m.

—Welcome, Introductions, and Announcements.

—Briefing—U.S. Marine Corps Update.

—Briefing—U.S. Army Update on Gender Neutral Physical Standards.

—Briefing—DoD Update on Sexual Assault Prevention and Response Strategy.

—Briefing—Legislative Proposal on Reproductive Health Care for Women.

Wednesday, December 12, 2012, 8:30 a.m.-11:30 a.m.

—Welcome, Introductions, and Announcements.

—Committee Proposes and Votes on 2012 Report.

—Public Comment Period.

Written Statements

Interested persons may submit a written statement for consideration by the Defense Advisory Committee on Women in the Services. Individuals submitting a written statement must submit their statement to the Point of Contact listed in FOR FURTHER INFORMATION CONTACT no later than 5:00 p.m., Friday, December 7, 2012. If a written statement is not received by Friday, December 7, 2012, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services.

Oral Statements

If members of the public are interested in making an oral statement, a written statement should be submitted as above. After reviewing the written comments, the Chairperson and the Designated Federal Officer will determine who of the requesting persons will be able to make an oral presentation of their issue during an open portion of this meeting or at a future meeting. Determination of who will be making an oral presentation is at the sole discretion of the Committee Chair and the Designated Federal Officer and will depend on time available and if the topics are relevant to the Committee's activities. Two minutes will be allotted to persons desiring to make an oral presentation. Oral presentations by members of the public will be permitted only on Wednesday, December 12, 2012 from 10:15 a.m. to 11:15 a.m. in front of the full Committee. Number of oral presentations to be made will depend on the number of requests received from members of the public.

Dated: November 15, 2012.
Aaron Siegel,
Alternate OSD Federal Register Liaison Officer, Department of Defense.

[FR Doc. 2012-28141 Filed 11-19-12; 8:45 am]

BILLING CODE 5001-06-P